DEPARTMENT OF THE INTERIOR

Bureau of Land Management

[LLIDT000000.L11200000.DD0000.241A.00]

Notice of Public Meetings, Twin Falls District Resource Advisory Council, Idaho

AGENCY: Bureau of Land Management, Interior.

ACTION: Notice of public meetings.

SUMMARY: In accordance with the Federal Land Policy and Management Act (FLPMA), the Federal Advisory Committee Act of 1972 (FACA, the U.S. Department of the Interior, Bureau of Land Management (BLM) Twin Falls District Resource Advisory Council (RAC) will meet as indicated below.

DATES: On June 20, 2013, the Twin Falls District RAC members will meet at the Burley Field Office, 15 East, 200 South, Burley, Idaho. The meeting will begin at 9:00 a.m. and end no later than 6:00 p.m. The public comment period for the RAC meeting will take place 9:10 a.m. to 9:40 a.m. Following a short meeting, RAC members will take a field tour of projects within the Burley Field Office

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. During the field tour, RAC members will visit the Milner Historic Recreation Area to learn more about the proposed improvements to the property, and areas of the South Hills that were rehabilitated following the Cave Canyon Fire of 2012. Additional topics may be added and will be included in local media announcements. More information is available at http://www.blm.gov/id/st/en/get_involved/resource_advisory.html RAC meetings are open to the public. For further information about the meeting, please contact Heather Tiel-Nelson, Public Affairs Specialist for the Twin Falls District BLM at (208) 736-2352.

Dated: May 20, 2013.
Mel M. Meier,
District Manager.

[FR Doc. 2013-12835 Filed 5-29-13; 8:45 am]

BILLING CODE 4310-GG-P